DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Report—Manufacturer of Tobacco Products or Cigarette Papers and Tubes.

DATES: Written comments should be received on or before July 29, 2002 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Robert P. Ruhf, Regulations Division, 650 Massachusetts Avenue, NW., Washington, DC 20226, (202) 927-8210.

SUPPLEMENTARY INFORMATION: Title: Report—Manufacturer of Tobacco Products or Cigarette Papers and Tubes.

OMB Number: 1512-0163.

Form Number: ATF F 5210.5.

Abstract: Manufacturers account for their taxable articles on ATF F 5210.5, Report—Manufacturer of Tobacco Products or Cigarette Papers and Tubes. ATF uses this information to ensure that taxes have been properly paid and that Federal laws and regulations are complied with.

Current Actions: ATF F 5210.5, Report—Manufacturer of Tobacco Products or Cigarette Papers and Tubes has been revised The instructions have been changed and ATF believes that the additional instructions will help the manufacturers to understand the reporting requirements. A new requirement is an employer identification number that must be listed on the form. An employer identification number is required on the tax returns that are filed by manufacturers and ATF will use these numbers to electronically match ATF F 5210.5 with the tax returns. There is an increase in burden hours due to an increase in the number of manufacturers.

Type of Review: Revision.

Affected Public: Business or other for-profit.

Estimated Number of Respondents: 150.

Estimated Total Annual Burden Hours: 1,800.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 16, 2002.
William T. Earle,
Assistant Director (Management) CFO.

[FR Doc. 02-13212 Filed 5-24-02; 8:45 am]

BILLING CODE 4810-31-P